DEPARTMENT OF HEALTH AND HUMAN SERVICES

Centers for Disease Control and Prevention

[Program Announcement 02018]

New York Emergency Disaster Relief Related to Asthma; Notice of Availability of Funds

A. Purpose

The Centers for Disease Control and Prevention (CDC) announces the availability of funds for a cooperative agreement program for New York Emergency Disaster Relief Related to Asthma. The purpose of the program is to assist the New York State Department of Human Services in assessing public health threats and addressing public health issues related to asthma, as a result of the terrorist attack of September 11, 2001. This program addresses the “Healthy People 2010” focus areas of Environmental Health and Public Health Infrastructure.

B. Eligible Applicant

Eligible applicant is Health Research, Inc./New York State Department of Health. No other applications are solicited.

This project is authorized by H.R. 2888, 2001 Emergency Supplemental Appropriations Act for Recovery from and Response to Terrorist Attacks on the United States.

C. Availability of Funds

Approximately $5,200,000 is available to fund this award. The award is expected to be made for a 12-month budget period within a 5 year project period. As long as funds are continued or directed for this applicant continuation funding will be made available for up to 5 years. Funding estimates may vary and are subject to change.

At the request of the applicant, Federal personnel, equipment, or supplies may be provided in lieu of a portion of the financial assistance.

D. Where To Obtain Additional Information

If you have questions after reviewing the contents of all the documents, business management technical assistance may be obtained from: Sharon Robertson, Lead Grants Management Specialist, Grants Management Branch, Procurement and Grants Office, Centers for Disease Control and Prevention (CDC), 2920 Brandywine Road, Room 3000, Atlanta, GA 30341-4146, Telephone: (770) 488-2740, E-mail address: sqr2@cdc.gov.

For program technical assistance, contact: Liane Hostler, Air Pollution and Respiratory Health Branch, National Center for Environmental Health, Centers for Disease Control and Prevention, 1600 Clifton Road, NE (MS E-17), Atlanta, GA 30333, Telephone number: (404) 498-1009, E-mail address: lch2@cdc.gov.

Dated: October 18, 2001.
Rebecca O'Kelley,
Acting Director, Procurement and Grants Office, Centers for Disease Control and Prevention (CDC).

[FR Doc. 01-26742 Filed 10-23-01; 8:45 am]

BILLING CODE 4163-18-P